DEPARTMENT OF STATE

[Public Notice 4228]

U.S. Advisory Commission on Public Diplomacy; Notice of Meeting

The Department of State announces the meeting of the U.S. Advisory Commission on Public Diplomacy on Wednesday, February 26 in Room 1408 of the U.S. Department of State at 2201 C Street, NW., Washington, DC. The meeting will take place from 1:30 p.m. to 2:45 p.m.

The Commission will hear from the State Department's Coordinator for International Information Programs (IIP). IIP is the State Department's information arm, providing the tools for the U.S. government to communicate effectively with foreign audiences. IIP provides communication strategy, products and programs that provide context for U.S. policy and American foreign policy overseas.

Stuart W. Holliday, IIP Coordinator, will be the speaker at the meeting. Previously, Mr. Holliday served as Principal Deputy Assistant Secretary for the Bureau of Public Affairs. Prior to this appointment, he served as Special Assistant to the President and Associate Director of Presidential Personnel at the White House, where he was responsible for the National Security Area. Mr. Holliday also served as policy advisor to Vice Presidential candidate Dick Cheney, and starting in 1998 he served as Deputy Policy Director in the Office of Governor W. Bush.

The U.S. Advisory Commission on Public Diplomacy is a bipartisan Presidentially appointed panel created by Congress in 1948 to provide oversight of U.S. Government activities intended to understand, inform and influence foreign publics. The Commission reports its findings and recommendations to the President, the Congress and the Secretary of State and the American people. Current commission members include Harold Pachios of Maine, who is the chairman; Charles Dolan of Virginia, who is the vice chairman; Penne Percy Korth of Texas; Lewis Manilow of Illinois; and Maria Elena Torano of Florida.

Members of the press and general public may attend the meeting, though attendance will be limited to the seating available. Access to the building is controlled, and individual building passes are required for all attendees.

To attend the meeting, please contact Matt Lauer at (202) 619-4457 and provide date of birth and Social Security number. For more information visit http://www.state.gov/r/adcompd.

Dated: January 31, 2003.
Matthew Lauer,
International Information Programs, U.S. Advisory Commission on Public Diplomacy, Department of State.

[FR Doc. 03-2923 Filed 2-5-03; 8:45 am]

BILLING CODE 4710-11-P